DEPARTMENT OF JUSTICE

Antitrust Division

Notice Pursuant to the National Cooperative Research and Production Act of 1993—Insulated Cable Engineers Association, Inc.

Notice is hereby given that, on September 16, 2004, pursuant to Section 6(a) of the National Cooperative Research and Production Act of 1993, 15 U.S.C. 4301 et seq. (“the Act”), Insulated Cable Engineers Association, Inc. (“ICEA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Insulated Cable Engineers Association, Inc., Carrollton, GA. The nature and scope of ICEA's standards development activities are: Since 1925 ICEA has written, published and maintained Papers, Standards and Test Procedures relating to the design and testing of insulated power and telecommunications cables. These cables are used for power, control, data and voice communications. Electric utilities, telecommunications companies, government agencies and end users use these standards for the specification and purchase of insulated cables used throughout North America. These standards receive American National Standards Institute (ANSI) approval and are the American Standard.

Dorothy B. Fountain,
Deputy Director of Operations, Antitrust Division.

[FR Doc. 04-23784 Filed 10-22-04; 8:45 am]

BILLING CODE 4410-11-M